DEPARTMENT OF AGRICULTURE

Forest Service

Environmental Impact Statements: Vegetation Management in the Appalachian Mountains; Vegetation Management in the Coastal Plain/Piedmont; and Vegetation Management in the Ozark/Ouachita Mountains

AGENCY: Forest Service, USDA.

ACTION: Notice of intent to prepare three supplemental environmental impact statements.

SUMMARY: The Forest Service, Southern Region, will prepare a Supplemental Environmental Impact Statement (EIS) for each of the three Vegetation Management EISs: (1) Vegetation Management in the Appalachian Mountains; (2) Vegetation Management in the Coastal Plains/Piedmont; and (3) Vegetation Management in the Ozark/Ouachita Mountains to clarify management requirements contained in each on Proposed, Endangered, Threatened, and Sensitive (PETS) species and to amend the subject Forest Land and Resource Management Plans to clarify the same requirements. The existing requirements for Biological Evaluations (BEs) unnecessarily restrict analysis to population survey information and would require gathering population inventory information in cases where gathering the information is not technically feasible or necessary. If approved, the changes would provide for using widely accepted methods of biological analysis and would improve the efficiency of conducting BEs on National Forests in the Southern Region.

DATES: Comments concerning the proposals should be received on or before October 9, 2001.

ADDRESSES: Send written comments to the Regional Forester, Attention: Mercedes Martin; USDA, Forest Service; Suite 811N; 1720 Peachtree St., NW; Atlanta, GA; 30309-9102.

FOR FURTHER INFORMATION CONTACT: Co-team leaders Robert Wilhelm, (404) 347-7076 or David Purser (404) 347-5292.

SUPPLEMENTARY INFORMATION: The Forest Service proposes to amend Forest Plans in the Southern Region and supplement the EISs for Vegetation Management in the Appalachian Mountains, the Coastal Plains/Piedmont, and the Ozark/Ouachita Mountains to clarify Management Requirements for managing PETS species. The changes pertain to requirements for gathering population inventory information on PETS species when conducting a BE for proposed vegetation management projects.

The action is needed because the requirements for conducting BEs for vegetation management projects exclude accepted methods of analysis, overemphasize population inventory information, and, in some cases, require gathering population inventory information where it is unnecessary or is not technically feasible. The Records of Decision for the three EISs amended the Forest Plans in the Southern Region.

In a separate action, the Southern Region will supplement the Forest Service Manual to include regional policy requirements on conducting BEs. The Forest Service is inviting comment on that action under 36 CFR 216.

Decisions To Be Made

The Regional Forester will decide whether, and in what way, to modify the management requirements pertaining to population inventory information in BEs for projects covered in the three Records of Decision and EISs for Vegetation Management, and, through the Records of Decision, will amend the respective Forest Plans to make the corresponding changes in the standard on conducting BEs.

Responsible Official

Elizabeth Estill, Regional Forester, 1720 Peachtree St., NW; Atlanta, GA, 30309-9102 is the Responsible Official making the decisions on regional requirements on vegetation management and to amend the Forest Plans to make the corresponding changes.

Preliminary Issues

One preliminary issue has been identified: whether PETS species will be adequately protected and managed.

Public Involvement

The Forest Service will be seeking information, comments and assistance from Federal, State and local agencies and other individuals or organizations who may be interested in, or affected by, the proposed action.

While public participation in these analyses is welcome at any time, comments received within 30 days of the publication of this notice will be especially useful in the preparation of the Draft Supplemental EISs. No public meetings are planned. The scoping process for each supplement will include identifying: potential issues, significant issues to be analyzed, alternatives to the proposed action, and potential environmental effects of the proposal and alternatives.

Estimated Dates for Filing

The three Draft Supplemental EISs are expected to be filed with the Environmental Protection Agency (EPA) and available for public review by December 2001. At that time, EPA will publish a Notice of Availability of each Draft Supplemental EIS in the Federal Register. The comment period on each Draft Supplemental EIS will be 45 days from the date the EPA publishes the Notice of Availability in the Federal Register. It is important that those interested in the population inventory issue participate at that time.

The Final Supplemental EISs are scheduled to be completed by March 2002. In the Final Supplemental EISs, the Forest Service is required to respond to comments and responses received during the comment period that pertain to the environmental consequences discussed in each Draft Supplemental EIS and applicable laws, regulations, and policies considered in making a decision regarding each proposal.

The Reviewer's Obligation To Comment

The Forest Service believes it is important to give reviewers notice at this early stage of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the Draft Supplemental EIS should be as specific as possible. It is also helpful if comments refer to specific pages or chapters of the Draft. Comments may also address the adequacy of the draft EIS or the merits of the alternatives formulated and discussed in the statement. Reviewers may wish to refer to the Council on Environmental Quality Regulations for implementing the procedural provisions of the National Environmental Policy Act at 40 CFR 1503.3 in addressing these points.

Dated: August 31, 2001.
Elizabeth Estill,
Regional Forester.

[FR Doc. 01-22500 Filed 9-6-01; 8:45 am]

BILLING CODE 3410-11-M